DEPARTMENT OF HOMELAND SECURITY

Transportation Security Administration

[Docket No. TSA-2001-11120]

Intent To Request Extension From OMB of One Current Public Collection of Information: Imposition and Collection of Passenger Civil Aviation Security Service Fees

AGENCY: Transportation Security Administration, DHS.

ACTION: 60-Day notice.

SUMMARY: The Transportation Security Administration (TSA) invites public comment on one currently approved Information Collection Request (ICR), Office of Management and Budget (OMB) control number 1652-0001, abstracted below that we will submit to OMB for an extension in compliance with the Paperwork Reduction Act (PRA). The ICR describes the nature of the information collection and its expected burden. The collection involves air carriers maintaining an accounting system for the passenger civil aviation security service fees collected and reporting this information to TSA on a quarterly basis, as well as retaining the data used for these reports for three fiscal years.

DATES: Send your comments by November 4, 2024.

ADDRESSES: Comments may be emailed to TSAPRA@tsa.dhs.gov or delivered to the TSA PRA Officer, Information Technology (IT), TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0001; Imposition and Collection of Passenger Civil Aviation Security Service Fees. In accordance with 49 U.S.C. 44940 and relevant TSA Regulations, see 49 CFR part 1510, TSA imposes a Passenger Civil Aviation Security Service Fee (September 11th Security Fee) on passengers of both foreign and domestic air carriers (“air carriers”) on air transportation originating at airports in the United States.

The September 11th Security Fee is collected by air carriers and remitted to TSA, which then transmits the fees to the U.S. Treasury Department to help offset the Federal Government's costs of providing civil aviation security services and other purposes designated by 49 U.S.C. 44940. This information collection requires air carriers to submit to TSA information regarding the amount of September 11th Security Fees an air carrier has imposed, collected, refunded to passengers, and remitted to TSA. The retention of this data is necessary for TSA to ensure the proper imposition, collection, and regulation the September 11th Security Fee. Additionally, TSA collects the information to monitor carrier compliance with the fee requirements and for auditing purposes. Air carriers are required to retain this information for three years. Specifically, information collected during a given fiscal year (FY) (October 1 through September 30) must be retained through three subsequent fiscal years. For example, information collected during fiscal year 2020 must be retained through fiscal year 2023.

TSA's regulations require air carriers to impose and collect the fee on passengers, and to remit the fee to TSA by the final day of the calendar month following the month in which the fee was collected. See 49 CFR 1510.13. Air carriers are further required to submit quarterly reports to TSA, which indicate the amount of fees imposed, collected, and refunded to passengers, and remitted to TSA. See 49 CFR 1510.17.

TSA has suspended a requirement for each air carrier that collects security service fees from more than 50,000 passengers annually to submit to TSA an annual independent audit, performed by an independent certified public accountant, of its security service fee activities and accounts. See 49 CFR 1510.15. Although the annual independent audit requirements were suspended on January 23, 2003 (see 68 FR 3192), TSA conducts its own audits of the air carriers. See 49 CFR 1510.11. Notwithstanding the suspension of the audit requirements, air carriers must establish and maintain an accounting system to account for the security service fees imposed, collected, refunded to passengers, and remitted to TSA. See 49 CFR 1510.15(a).

TSA is seeking an extension of this collection to require air carriers to continue submitting the quarterly reports to TSA, and to require air carriers to retain the information for three fiscal years after the fiscal year in which the information was collected. This requirement includes retaining the source information for the quarterly reports remitted to TSA as well as the calculations performed to create the reports submitted to TSA. Should the annual audit requirement be reinstated, the requirement would include information and documents reviewed and prepared for the independent audit; the accountant's working papers, notes, worksheets, and other relevant documentation used in the audit; and, if applicable, the specific information leading to the accountant's opinion, including any determination that the accountant could not provide an audit opinion. Although TSA suspended the independent audit requirement, TSA conducts audits of the air carriers, and therefore, requires air carriers to retain and provide the same information as required for the quarterly reports and independent audits.

TSA has incorporated minor adjustments to the figures used to estimate the costs of this ICR. The adjustments consider changes in the number of regulated air carriers and various administrative cost rates since the previous extension. TSA estimates that 188 total respondent air carriers will each spend approximately 1 hour to prepare and submit each quarterly report. TSA estimates that these respondents will incur a total of 752 hours (188 carriers × 4 quarterly reports × 1 hour per report) to satisfy the quarterly reporting requirements annually.

TSA estimates 301 total responses from all respondent air carriers (188 plus 113, should the annual audit requirement be reinstated), with 3,012 burden hours (752 hours for quarterly reports and 2,260 hours for audits) annually to satisfy the quarterly report and audit requirements.

Dated: August 29, 2024.
Christina A. Walsh,
TSA Paperwork Reduction Act Officer, Information Technology.

[FR Doc. 2024-19825 Filed 9-3-24; 8:45 am]

BILLING CODE 9110-05-P